ENVIRONMENTAL PROTECTION AGENCY

[EPA-HQ-OAR-2004-0065; FRL 9909-89-OEI]

Information Collection Request Submitted to OMB for Review and Approval; Comment Request; Application Requirements for the Approval and Delegation of Federal Air Toxics Programs to State, Territorial, Local, and Tribal Agencies

AGENCY: Environmental Protection Agency (EPA).

ACTION: Notice.

SUMMARY: The Environmental Protection Agency (EPA) has submitted an information collection request (ICR), Application Requirements for the Approval and Delegation of Federal Air Toxics Programs to State, Territorial, Local, and Tribal Agencies (EPA ICR No. 1643.08, OMB Control No. 2060-0264), to the Office of Management and Budget (OMB) for review and approval in accordance with the Paperwork Reduction Act (44 U.S.C. 3501 et seq.). This is a proposed extension of the ICR, which is currently approved through April 30, 2014. Public comments were previously requested via the Federal Register (79 FR 2828) on January 16, 2014 during a 60-day comment period. This notice allows for an additional 30 days for public comments. A fuller description of the ICR is given below, including its estimated burden and cost to the public. An agency may not conduct or sponsor and a person is not required to respond to a collection of information unless it displays a currently valid OMB control number.

DATES: Additional comments may be submitted on or before May 27, 2014.

ADDRESSES: Submit your comments, referencing Docket ID No. EPA-HQ-OAR-2004-0065, to (1) the EPA online using www.regulations.gov (our preferred method), by email to a-and-r-docket@epa.gov, or by mail to: EPA Docket Center, Environmental Protection Agency, Mail Code 28221T, 1200 Pennsylvania Ave. NW., Washington, DC 20460, and (2) OMB via email to oira_submission@omb.eop.gov. Address comments to OMB Desk Officer for EPA.

The EPA's policy is that all comments received will be included in the public docket without change including any personal information provided, unless the comment includes profanity, threats, information claimed to be Confidential Business Information (CBI) or other information whose disclosure is restricted by statute.

FOR FURTHER INFORMATION CONTACT: Paula Hirtz, OAQPS/SPPD, E143-01, Environmental Protection Agency, RTP, NC 27711; telephone number: 919-541-2618; fax number: 919-541-0246; email address: hirtz.paula@epa.gov.

SUPPLEMENTARY INFORMATION: Supporting documents, which explain in detail the information that the EPA will be collecting, are available in the public docket for this ICR. The docket can be viewed online at www.regulations.gov or in person at the EPA Docket Center, William Jefferson Clinton Building West, Room 3334, 1301 Constitution Ave. NW., Washington, DC. The telephone number for the Docket Center is 202-566-1744. For additional information about the EPA's public docket, visit http://www.epa.gov/dockets.

Abstract: This information collection is an application from state, local, or tribal agencies (S/L/Ts) for delegation of regulations developed under section 112 of the Clean Air Act. The five options for delegation are straight delegation, rule adjustment, rule substitution, equivalency by permit, or state program approval. The information is needed and used to determine if the entity submitting an application has met the criteria established in 40 CFR part 63, subpart E. This information is necessary for the EPA Administrator to determine the acceptability of approving S/L/T's rules, requirements or programs in lieu of the federal section 112 rules or programs. The collection of information is authorized under 42 U.S.C. 7401-7671q.

Form Numbers: None.

Respondents/affected entities: Entities potentially affected by this action are S/L/Ts participating in this voluntary program. These government establishments are classified as Air and Water Resource and Solid Waste Management Programs under Standard Industrial Classification (SIC) code 9511 and North American Industry Classification System (NAICS) code 92411. No industries under any SIC or NAICS codes will be included among respondents.

Respondent's obligation to respond: Voluntary.

Estimated number of respondents: 119 S/L/Ts for maximum achievable control technology (MACT) standards and 95 S/L/Ts for area source standards per year.

Frequency of response: One time per delegation request.

Total estimated burden: 29,489 hours (per year). Burden is defined at 5 CFR 1320.03(b)

Total estimated cost: $1,502,300, which includes $2,300 for operation and maintenance costs resulting from photocopying and postage expenses.

Changes in Estimates: This is a decrease of 7,618 hours in the total estimated respondent burden compared with the ICR currently approved by OMB. This decrease is due to: (1) Decrease in the number of MACT standard promulgations compared to last period, (2) a decrease in the number of area source standard promulgations compared to last period and (3) a decrease in the number of S/L/Ts taking area source delegation compared to last period.

Dated: April 17, 2014.
Erin Collard,
Acting Director, Collection Strategies Division.

[FR Doc. 2014-09456 Filed 4-24-14; 8:45 am]

BILLING CODE 6560-50-P